DEPARTMENT OF HEALTH AND HUMAN SERVICES

National Institutes of Health

NIH Pathways to Prevention Workshop: Advancing Research To Prevent Youth Suicide

SUMMARY: The National Institutes of Health (NIH) will host a workshop on Advancing Research To Prevent Youth Suicide on March 29-30, 2016. The workshop is free and open to the public.

DATES: March 29, 2016, from 8:30 a.m.-4:50 p.m. and March 30, 2016, from 8:30 a.m.-1:00 p.m.

ADDRESSES: The workshop will be held at the NIH, Masur Auditorium, Building 10 (Clinical Center), 9000 Rockville Pike, Bethesda, Maryland 20892. Registration and workshop information are available on the NIH Office of Disease Prevention (ODP) Web site at <https://prevention.nih.gov/p2psp>.

FOR FURTHER INFORMATION CONTACT: For further information concerning this workshop, contact the ODP at <NIHP2P@mail.nih.gov>, 6100 Executive Blvd., Room 2B03, MSC 7523, Bethesda, MD 20892-7523; Telephone: 301-496-1508; FAX: 301-480-7660.

SUPPLEMENTARY INFORMATION: Suicide was the second leading cause of death for youth (10- to 24-year-olds) in 2014, resulting in 5,504 deaths in the United States. This mortality has not decreased compared to other external causes of death, and youth suicide attempts have remained at consistent rates for decades. According to the 2011 Youth Risk Behavior Surveillance System, 2.4% of high school students received medical treatment for attempted suicide, and 7.8% attempted suicide one or more times within the year. Some groups (e.g., American Indian youth; young adults with substance use problems; children of depressed parents; youth and young adults who identify as a sexual and gender minority) are at increased risk for suicidal behaviors.

One of the challenges in suicide prevention research is that the primary outcome of interest is multidetermined and, depending on the target population, suicide can be a low base rate occurrence. Many studies examining risk in important subgroups (e.g., racial, ethnic, sexual and gender minorities) often lack sufficient power to accurately determine the effectiveness of the intervention. Because suicidal behavior is often multidetermined, it may be that interventions addressing suicide risk factors have benefits for suicide reduction, but these benefits are not obvious in research findings, nor can the larger community know of these benefits. Pooling studies and being able to link data from individual studies to multiple data surveillance systems would be important to better understand the effectiveness of prevention strategies on outcomes such as suicide, suicide attempts, and suicide ideation. Preventing attempts and self-harm ideation would likely result in a reduction in deaths, as well as reductions in health care and social burden associated with suicidal behavior.

Closing the research gaps related to youth suicide could lead to improved prevention strategies. The NIH is engaging in a rigorous assessment of the available scientific evidence to better understand the importance of identifying efforts that could be effective in preventing suicidal thoughts and behaviors as early as possible. The National Institute of Mental Health, the National Institute on Drug Abuse, the National Center for Complementary and Integrative Health, and the NIH Office of Disease Prevention (ODP) are sponsoring the Pathways to Prevention Workshop: Advancing Research To Prevent Youth Suicide on March 29-30, 2016, in Bethesda, Maryland. The workshop will evaluate the current state of knowledge on youth suicide and identify opportunities for future research. Specifically, the workshop will seek to clarify the following questions:

• Key Question 1: How can national, state, and community data systems be linked to existing data from suicide prevention efforts in order to add possible value for stakeholders? What methods are available to link the data systems?

• Key Question 2: Which statistical methods are reliable and valid for understanding possible mediators and moderators in suicide prevention programs to improve targeting interventions to populations?

• Key Question 3: Which statistical methods are reliable and valid for analyzing linked national, state, and community data systems and suicide prevention data to avoid misleading conclusions?

• Key Question 4: Given the current state of research, what types of methodological/analytic advances would promote further evaluation of youth suicide prevention efforts (e.g., new approaches to data linkage; increased use of common data elements; approaches to intervention harmonization) and facilitate intervention selection and implementation decisions by local community and state-level policymakers?

• Key Question 5: What is the way forward that will help the suicide prevention research community realize the potential benefits of early prevention? What are the immediate and longer-term research investments needed to accomplish this?

Initial planning for each Pathways to Prevention workshop, regardless of the topic, is coordinated by a Content-Area Expert Group that nominates panelists and speakers and develops and finalizes questions that frame the workshop. After the questions are finalized, an evidence report is prepared by an Evidence-based Practice Center, through a contract with the Agency for Healthcare Research and Quality. During the 1½-day workshop, invited experts discuss the body of evidence, and attendees provide comments during open discussion periods. After weighing evidence from the evidence report, expert presentations, and public comments, an unbiased, independent panel prepares a draft report that identifies research gaps and future research priorities. The draft report is posted on the ODP Web site for public comment. After reviewing the public comments, the panel prepares a final report, which is also posted on the ODP Web site. The ODP then convenes a Federal Partners Meeting to review the panel report and identify possible opportunities for collaboration.

Please Note: As part of measures to ensure the safety of NIH employees and property, all visitors must be prepared to show a photo ID upon request. Visitors may be required to pass through a metal detector and have bags, backpacks, or purses inspected or x-rayed as they enter the NIH campus. For more information about the security measures at the NIH, please visit <http://www.nih.gov/about/visitorsecurity.htm>.

Dated: March 7, 2016.
Lawrence A. Tabak,
Deputy Director, National Institutes of Health.

[FR Doc. 2016-05564 Filed 3-10-16; 8:45 am]

BILLING CODE 4140-01-P